DEPARTMENT OF COMMERCE

National Oceanic and Atmospheric Administration

RIN 0648-XF546

Pacific Fishery Management Council; Public Meeting (Webinar)

AGENCY: National Marine Fisheries Service (NMFS), National Oceanic and Atmospheric Administration (NOAA), Commerce.

ACTION: Notice of public meeting (webinar).

SUMMARY: The Pacific Fishery Management Council's (Pacific Council) Ad hoc Sacramento River Winter Chinook Workgroup (SRWCW) and Salmon Advisory Subpanel (SAS) will hold a joint meeting via webinar to discuss the results of the Management Strategy Evaluation. The meeting is open to the public.

DATES: The webinar meeting will be held on Thursday, August 3, 2017, from 11 a.m. until business for the day has been completed.

ADDRESSES: The meeting will be held via webinar. A public listening station is available at the Pacific Council office (address below). To attend the webinar (1) join the meeting by visiting this link https://global.gotomeeting.com/join/955668125, (2) enter the Webinar ID: 955-668-125, and (3) enter your name and email address (required). After logging in to the webinar, please (1) dial this TOLL number 1-786-535-3211 (not a toll-free number), (2) enter the attendee phone audio access code 955-668-125, and (3) then enter your audio phone pin (shown after joining the webinar). Note: We have disabled Mic/Speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (See the GoToMeeting WebinarApps). You may send an email to Mr. Kris Kleinschmidt at Kris.Kleinschmidt@noaa.gov or contact him at 503-820-2280, extension 411 for technical assistance. A public listening station will also be available at the Pacific Council office.

Council address: Pacific Fishery Management Council, 7700 NE Ambassador Place, Suite 101, Portland, OR 97220.

FOR FURTHER INFORMATION CONTACT: Ms. Robin Ehlke, Pacific Council; telephone: (503) 820-2410.

SUPPLEMENTARY INFORMATION: The SRWCW was formed in November 2015 and tasked with exploring and evaluating alternative fishery management frameworks for Sacramento River winter Chinook. The SRWCW first met in 2016 and identified three areas of focus: (1) Develop methods for forecasting abundance, (2) develop a suite of alternative control rules and (3) evaluate the performance of these control rules with regard to conservation benefits and fishery costs using a Management Strategy Evaluation (MSE) approach. Since 2016 the group has addressed these tasks and provided progress reports to the Council as information was available. At this webinar, the SRWCW will focus the discussion on the results of the MSE. The SAS will attend to provide input and feedback to the SRWCW. The SRWCW is tentatively scheduled to present preliminary MSE results to the Pacific Fishery Management Council in September 2017, and provide final MSE results in November 2017. The SRWCW may also discuss materials and reports for the Council's September 2017 meeting, and any future meeting plans.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2411 at least 10 business days prior to the meeting date.

Dated: July 17, 2017.
Tracey L. Thompson,
Acting Deputy Director, Office of Sustainable Fisheries, National Marine Fisheries Service.

[FR Doc. 2017-15259 Filed 7-19-17; 8:45 am]

BILLING CODE 3510-22-P